DEPARTMENT OF TRANSPORTATION

Federal Aviation Administration

14 CFR Part 39

[Docket No. FAA-2018-0494; Product Identifier 2017-NM-182-AD; Amendment 39-19467; AD 2018-21-09]

RIN 2120-AA64

Airworthiness Directives; ATR-GIE Avions de Transport Régional Airplanes

AGENCY: Federal Aviation Administration (FAA), Department of Transportation (DOT).

ACTION: Final rule.

SUMMARY: We are superseding Airworthiness Directive (AD) 2006-07-26, which applied to all ATR-GIE Avions de Transport Régional Model ATR42 airplanes. AD 2006-07-26 required a one-time inspection to detect discrepancies (e.g., cracking, loose/sheared fasteners, distortion) on the left-hand and right-hand wings, of the outer wing box upper skin and upper rib feet, and repair if necessary. Since we issued AD 2006-07-26, after initial findings had suggested the cracking was isolated to a few airplanes, we received reports of cracking in these same areas on other Model ATR42 airplanes. This AD requires repetitive inspections to detect discrepancies on the left-hand and right-hand wings, of the outer wing box upper skin and upper rib feet, and repair if necessary. We are issuing this AD to address the unsafe condition on these products.

DATES: This AD is effective November 20, 2018.

The Director of the Federal Register approved the incorporation by reference of a certain publication listed in this AD as of November 20, 2018.

ADDRESSES: For service information identified in this final rule, contact ATR-GIE Avions de Transport Régional, 1 Allée Pierre Nadot, 31712 Blagnac Cedex, France; telephone +33 (0) 5 62 21 62 21; fax +33 (0) 5 62 21 67 18; email continued.airworthiness@atr-aircraft.com; internet http://www.atr-aircraft.com. You may view this referenced service information at the FAA, Transport Standards Branch, 2200 South 216th St., Des Moines, WA. For information on the availability of this material at the FAA, call 206-231-3195. It is also available on the internet at http://www.regulations.gov by searching for and locating Docket No. FAA-2018-0494.

Examining the AD Docket

You may examine the AD docket on the internet at http://www.regulations.gov by searching for and locating Docket No. FAA-2018-0494; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Shahram Daneshmandi, Aerospace Engineer, International Section, Transport Standards Branch, FAA, 2200 South 216th St., Des Moines, WA 98198; telephone and fax 206-231-3220.

SUPPLEMENTARY INFORMATION:

Discussion

We issued a notice of proposed rulemaking (NPRM) to amend 14 CFR part 39 to supersede AD 2006-07-26, Amendment 39-14553 (71 FR 18205, April 11, 2006) (“AD 2006-07-26”). AD 2006-07-26 applied to all ATR-GIE Avions de Transport Régional Model ATR42 airplanes. The NPRM published in the Federal Register on June 1, 2018 (83 FR 25419).

The European Aviation Safety Agency (EASA), which is the Technical Agent for the Member States of the European Union, has issued EASA AD 2017-0244, dated December 7, 2017 (referred to after this as the Mandatory Continuing Airworthiness Information, or “the MCAI”), to correct an unsafe condition for all ATR-GIE Avions de Transport Régional Model ATR42 airplanes. The MCAI states:

Occurrence was reported of detecting cracks on the wing of one in-service ATR 42 aeroplane in 2004. The cracks were found on the upper feet of ribs and on the upper skin of the wing outer boxes.

This condition, if not detected and corrected, could adversely affect the structural integrity of the aeroplane.

To address this potential unsafe condition, ATR issued Service Bulletin (SB) ATR42-57-0064 to provide inspection instructions and DGAC [Direction Générale de l'Aviation Civile] France issued [French] AD F-2004-191 (EASA approval 2004-12117) [which corresponds to FAA AD 2006-07-26] to require, for aeroplanes having accumulated more than 4,000 flight cycles (FC), a one-time Detailed Visual Inspection (DVI) of outer wing box upper skin and upper rib feet, on the right hand (RH) and left hand (LH) sides, from rib 24 to rib 29. After that [French] AD was issued, based on inspection results (all aeroplanes inspected, no similar case found), it was determined that these cracks were an isolated case.

More recently, three other cases were reported, indicating that this may not be an isolated case and that cracks could occur in this area of the wings on other ATR 42 aeroplanes. Consequently, ATR published SB ATR42-57-0074 (hereafter referred as ‘ATR SB’ in this [EASA] AD) to provide inspection instructions.

For the reasons described above, this [EASA] AD supersedes DGAC France AD F-2004-191 and requires repetitive DVI of the same wing areas and, depending on findings, accomplishment of a repair.

You may examine the MCAI in the AD docket on the internet at http://www.regulations.gov by searching for and locating Docket No. FAA-2018-0494.

Comments

We gave the public the opportunity to participate in developing this final rule. The following presents the comment received on the NPRM and the FAA's response.

Request To Refer to Latest Service Information

Empire Airlines stated that paragraphs (g) and (i) of the proposed AD refer to ATR Service Bulletin ATR42-57-0074, dated October 19, 2017. Empire Airlines also stated that service bulletin has been revised.

We infer that Empire Airlines requested that the references in paragraphs (g) and (i) of this AD be revised to refer to ATR Service Bulletin ATR42-57-0074, Revision 01, dated January 8, 2018. We agree to refer to the latest revision of the service information since the changes introduced in this revision do not affect the AD requirements. We have revised paragraphs (g) and (i) of this AD accordingly. We have also added paragraph (k) to this AD to provide credit for accomplishing ATR Service Bulletin ATR42-57-0074, dated October 19, 2017.

Conclusion

We reviewed the relevant data, considered the comment received, and determined that air safety and the public interest require adopting this final rule with the change described previously and minor editorial changes. We have determined that these minor changes:

• Are consistent with the intent that was proposed in the NPRM for addressing the unsafe condition; and

• Do not add any additional burden upon the public than was already proposed in the NPRM.

We also determined that these changes will not increase the economic burden on any operator or increase the scope of this final rule.

Related Service Information Under 1 CFR Part 51

ATR-GIE Avions de Transport Régional has issued ATR Service Bulletin ATR42-57-0074, Revision 01, dated January 8, 2018. This service information describes procedures for inspecting the outer wing box upper skin and upper rib feet, on the left-hand and right-hand wings, for discrepancies. This service information is reasonably available because the interested parties have access to it through their normal course of business or by the means identified in the ADDRESSES section.

Costs of Compliance

We estimate that this AD affects 37 airplanes of U.S. registry. We estimate the following costs to comply with this AD:

Estimated Costs
Action | Labor cost | Parts cost | Cost per product | Cost on U.S. operators
Inspection | 6 work-hours × $85 per hour = $510 per inspection cycle | $0 | $510 per inspection cycle | $18,870 per inspection cycle.
Reporting | 1 work-hour × $85 per hour = $85 per inspection cycle | 0 | $85 per inspection cycle | $3,145 per inspection cycle.

We have received no definitive data that would enable us to provide cost estimates for the on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2006-07-26, Amendment 39-14553 (71 FR 18205, April 11, 2006), and adding the following new AD:

2018-21-09 ATR-GIE Avions de Transport Régional: Amendment 39-19467; Docket No. FAA-2018-0494; Product Identifier 2017-NM-182-AD.

(a) Effective Date

This AD is effective November 20, 2018.

(b) Affected ADs

This AD replaces AD 2006-07-26, Amendment 39-14553 (71 FR 18205, April 11, 2006) (“AD 2006-07-26”).

(c) Applicability

This AD applies to ATR-GIE Avions de Transport Régional Model ATR42-200, -300, -320, and -500 airplanes, certificated in any category, all manufacturer serial numbers.

(d) Subject

Air Transport Association (ATA) of America Code 57, Wings.

(e) Reason

This AD was prompted by reports of cracking on the left-hand and right-hand wings, of the outer wing box upper skin and upper rib feet. We are issuing this AD to address discrepancies (e.g., cracking, loose/sheared fasteners, distortion) on the left-hand and right-hand wings, of the outer wing box upper skin and upper rib feet, which could result in reduced structural integrity of the airplane.

(f) Compliance

Comply with this AD within the compliance times specified, unless already done.

(g) Repetitive Inspections

Within the initial compliance time specified in table 1 to paragraph (g) of this AD, and thereafter at intervals not to exceed 48 months or 6,000 flight cycles, whichever occurs first: Do a detailed visual inspection for discrepancies on the left-hand and right-hand wings, of the outer wing box upper skin and upper rib feet, between rib 24 and rib 29. Do the inspection in accordance with the Accomplishment Instructions of ATR Service Bulletin ATR42-57-0074, Revision 01, dated January 8, 2018.

(h) Corrective Actions

If any discrepancy is found during any inspection required by paragraph (g) of this AD: Before further flight, repair using a method approved by the Manager, International Section, Transport Standards Branch, FAA; or the European Aviation Safety Agency (EASA); or ATR-GIE Avions de Transport Régional's EASA Design Organization Approval (DOA). If approved by the DOA, the approval must include the DOA-authorized signature. Do the repair within the compliance time specified in the approved repair method.

(i) Reporting

At the applicable time specified in paragraph (i)(1) or (i)(2) of this AD: Report all findings (both positive and negative) of the inspections required by paragraph (g) of this AD to ATR-GIE Avions de Transport Régional, using the information in ATR Service Bulletin ATR42-57-0074, Revision 01, dated January 8, 2018.

(1) If the inspection was done on or after the effective date of this AD: Submit the report within 30 days after performing the inspection.

(2) If the inspection was done before the effective date of this AD: Submit the report within 30 days after the effective date of this AD.

(j) Repair Is Not Terminating Action

Unless the repair instructions specify otherwise, repair of an airplane as required by paragraph (h) of this AD is not considered terminating action for the repetitive detailed visual inspections required by paragraph (g) of this AD.

(k) Credit for Previous Actions

This paragraph provides credit for actions required by paragraphs (g) and (i) of this AD, if those actions were performed before the effective date of this AD using ATR Service Bulletin ATR42-57-0074, dated October 19, 2017.

(l) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(m) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or EASA; or ATR-GIE Avions de Transport Régional's EASA DOA. If approved by the DOA, the approval must include the DOA-authorized signature.

(n) Related Information

(1) Refer to Mandatory Continuing Airworthiness Information (MCAI) EASA AD 2017-0244, dated December 7, 2017, for related information. This MCAI may be found in the AD docket on the internet at http://www.regulations.gov by searching for and locating Docket No. FAA-2018-0494.

(2) For more information about this AD, contact Shahram Daneshmandi, Aerospace Engineer, International Section, Transport Standards Branch, FAA, 2200 South 216th St., Des Moines, WA 98198; telephone and fax 206-231-3220.

(3) Service information identified in this AD that is not incorporated by reference is available at the addresses specified in paragraphs (o)(3) and (o)(4) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) ATR Service Bulletin ATR42-57-0074, Revision 01, dated January 8, 2018.

(ii) Reserved.

(3) For service information identified in this AD, contact ATR-GIE Avions de Transport Régional, 1 Allée Pierre Nadot, 31712 Blagnac Cedex, France; telephone +33 (0) 5 62 21 62 21; fax +33 (0) 5 62 21 67 18; email continued.airworthiness@atr-aircraft.com; internet http://www.atr-aircraft.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on October 2, 2018.
Michael Kaszycki,
Acting Director, System Oversight Division, Aircraft Certification Service.

[FR Doc. 2018-22153 Filed 10-15-18; 8:45 am]

BILLING CODE 4910-13-P